DEPARTMENT OF JUSTICE

Notice of Lodging of Settlement Agreement Pursuant to the Comprehensive Environmental Response, Compensation and Liability

In accordance with Departmental policy, 28 CFR 50.7, and section 122 of the Comprehensive Environmental Response, Compensation and Liability Act (CERCLA), 42 U.S.C. 9622, notice is hereby given that on December 19, 2007 a proposed settlement agreement in In re W.R. Grace & Co., Case No. 01-01139 (JFK), was lodged with the United States Bankruptcy Court for the District of Delaware. The proposed Settlement Agreement would resolve the United States' proofs of claim filed in W.R. Grace & Co.'s bankruptcy proceeding for environmental response costs at 33 sites pursuant to section 107 of CERCLA, 42 U.S.C. 9607.

Under the terms of the Settlement Agreement, W.R. Grace & Co. will grant the United States an allowed general unsecured claim of $34,065,813.31 and an administrative priority claim of $2,294,279.86 (of which $672,574.42 will be paid within 30 days of Bankruptcy Court approval). Certain other PRPs at these sites will receive allowed general unsecured claims totaling $7,707,336.88.

The Department of Justice will receive, for a period of thirty (30) days from the date of this publication, comments relating to the proposed settlement agreement. Comments should be addressed to the Assistant Attorney General for the Environment and Natural Resources Division, Washington DC 20530, and may be submitted by electronic mail to pubcommentees.enrd@usdoj.gov. Comments should refer to In re W.R. Grace & Co. Case, No. 01-01139 (JFK), and Department of Justice Reference No. 90-11-2-07106/5.

The settlement agreement may be examined on the following Department of Justice Web site http://www.usdoj.gov/enrd/open.html. A copy of the agreement may also be obtained by mail from the Consent Decree Library, P.O. Box 7611, U.S. Department of Justice, Washington, DC 20044-7611 or by faxing or e-mailing a request to Tonia Fleetwood (tonia.fleetwood@usdoj.gov), fax no. 202-514-0097, phone confirmation number (202) 514-1547 In requesting a copy from the Consent Decree Library, please enclose a check in the amount of $11.00 ($.25 per page) payable to the U.S. Treasury.

Robert D. Brook,
Assistant Chief, Environmental Enforcement Section, Environment and Natural Resources Division.

[FR Doc. 08-54 Filed 1-10-08; 8:45 am]

BILLING CODE 4410-15-M